DEPARTMENT OF THE INTERIOR

Bureau of Land Management

[OR-021-1040-PH-021H: G-5-0180]

Emergency Closure of Public Lands: Harney County, OR

AGENCY: Bureau of Land Management, Interior.

SUMMARY: Notice is hereby given that certain public lands are temporarily closed to public use for the purpose of discharge of firearms, from September 1, 2005 to August 31, 2006. The authorized BLM officer has determined that shooting within one-quarter mile of Frenchglen, Oregon, may be a safety hazard to the residents. During the closure period, BLM will prepare National Environmental Policy Act documentation to consider a permanent closure.

The closed area occurs on BLM land around Frenchglen, Oregon, in Willamette Meridian, T. 32 S., R. 32 E., Section 02, Lots 3 and 4 east of the 115 kV power transmission line OR-012617, S½NW¼ east of the 115kV power transmission line OR-012617, N½SW¼ north of Hwy 205, E½SW¼ east of Elbow Springs Road, SW¼SE¼ east of Elbow Springs Road.

Closure signs will be posted at main entry points to the area and along the boundary as necessary. Maps of the closure area and information may be obtained from the BLM Burns District Office and at various locations in Burns, Hines, and Frenchglen.

DATES: The emergency closure will take effect from September 1, 2005 to August 31, 2006.

FOR FURTHER INFORMATION CONTACT: Karla Bird, Andrews Resource Area Field Manager, BLM, Burns District Office, 28910 Hwy 20 West, Hines, Oregon 97738, (541) 573-4400.

Discussion of the Rules: Pursuant to 43 CFR 8364.1 the following is prohibited on lands administered by BLM within the closed area of Andrews Resource Area:

Discharge of firearms or other device capable of firing a projectile into or within the closed area posted “No Shooting or Safety Zone.”

Penalties: The enforcement authority for this closure is found under Section 303(a) of the Federal Land Policy and Management Act of 1976 (43 U.S.C. 1733(a)) and 43 CFR 8360.0-7. Any person who violates this closure may be tried before a United States Magistrate and fined no more than $1,000 or imprisoned for no more than 12 months, or both. Such violations may also be subject to the enhanced fines provided for by 18 U.S.C. 3571.

Dated: July 21, 2005.
Karla Bird,
Andrews Resource Area Field Manager.

[FR Doc. 05-21393 Filed 10-25-05; 8:45 am]

BILLING CODE 4310-33-P